DEPARTMENT OF DEFENSE

Defense Acquisition Regulations System

48 CFR Part 225

[Docket DARS-2018-0025]

RIN 0750-AJ70

Defense Federal Acquisition Regulation Supplement: Repeal of Restrictions on Chemical Weapons Antidote (DFARS Case 2018-D006)

AGENCY: Defense Acquisition Regulations System, Department of Defense (DoD).

ACTION: Final rule.

SUMMARY: DoD is issuing a final rule to amend the Defense Federal Acquisition Regulation Supplement (DFARS) to implement a section of the National Defense Authorization Act for Fiscal Year 2018 that established a sunset date for restrictions on acquisition of chemical weapons antidote contained in automatic injectors, or the components of such injectors.

DATES: Effective October 1, 2018.

FOR FURTHER INFORMATION CONTACT: Ms. Amy Williams, telephone 571-372-6106.

SUPPLEMENTARY INFORMATION:

I. Background

This final rule implements section 813(a) of the National Defense Authorization Act for Fiscal Year 2018, which amends 10 U.S.C. 2534(c) to establish a sunset date of October 1, 2018, for 10 U.S.C. 2534(a)(2) and (b)(2), the limitation on procurement of chemical weapons antidote contained in automatic injectors (and components for such injectors).

This rule deletes DFARS 225.7005 in its entirety to remove the obsolete text regarding restrictions on certain chemical weapons antidote.

II. Applicability to Contracts at or Below the Simplified Acquisition Threshold and for Commercial Items, Including Commercially Available Off-the-Shelf Items

This rule does not add any new burdens or impact applicability of clauses and provisions at or below the simplified acquisition threshold, or to acquisition of commercial items.

III. Executive Orders 12866 and 13563

Executive Orders (E.O.s) 12866 and 13563 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. This is not a significant regulatory action and, therefore, was not subject to review under section 6(b) of E.O. 12866, Regulatory Planning and Review, dated September 30, 1993. This rule is not a major rule under 5 U.S.C. 804.

IV. Executive Order 13771

This final rule is not an E.O. 13771, Reducing Regulation and Controlling Regulatory Costs, regulatory action, because this rule is not significant under E.O. 12866.

V. Publication of This Final Rule for Public Comment Is Not Required by Statute

The statute that applies to the publication of the Federal Acquisition Regulation is the Office of Federal Procurement Policy statute (codified at title 41 of the United States Code). Specifically, title 41 U.S.C. 1707(a)(1) requires that a procurement policy, regulation, procedure, or form (including an amendment or modification thereof) must be published for public comment if it relates to the expenditure of appropriated funds, and has either a significant effect beyond the internal operating procedures of the agency issuing the policy, regulation, procedure, or form, or has a significant cost or administrative impact on contractors or offerors. This final rule is not required to be published for public comment, because it just removes obsolete text from the DFARS, which affects only the internal operating procedures of the Government.

VI. Regulatory Flexibility Act

Because a notice of proposed rulemaking and an opportunity for public comment are not required to be given for this rule under 41 U.S.C. 1707(a)(1) (see section V. of this preamble), the analytical requirements of the Regulatory Flexibility Act (5 U.S.C. 601 et seq.) are not applicable. Accordingly, no regulatory flexibility analysis is required and none has been prepared.

VII. Paperwork Reduction Act

This rule does not contain any information collection requirements that require the approval of the Office of Management and Budget under the Paperwork Reduction Act (44 U.S.C. chapter 35).

List of Subjects in 48 CFR Part 225

Government procurement.

Amy G. Williams,
Deputy, Defense Acquisition Regulations System.

Therefore, 48 CFR part 225 is amended as follows:

PART 225-FOREIGN ACQUISITION

1. The authority citation for part 225 continues to read as follows:

Authority: 41 U.S.C. 1303 and 48 chapter 1.

225.7005 [Removed and Reserved]

2. Remove and reserve section 225.7005.

225.7005-1 [Removed]

3. Remove section 225.7005-1.

225.7005-2 [Removed]

4. Remove section 225.7005-2.

225.7005-3 [Removed]

5. Remove section 225.7005-3.

[FR Doc. 2018-11343 Filed 5-29-18; 8:45 am]

BILLING CODE 5001-06-P